DEPARTMENT OF TRANSPORTATION

Federal Aviation Administration

Notice of Intent to Release Certain Properties from All Terms, Conditions, Reservations and Restrictions of a Quitclaim Deed Agreement Between the City of Orlando and the Federal Aviation Administration for the Orlando International Airport, Orlando, FL

AGENCY: Federal Aviation Administration (FAA), DOT.

ACTION: Request for Public Comment.

SUMMARY: The FAA hereby provides notice of intent to release certain airport properties ±0.422 acres at the Orlando International Airport, Orlando, FL from the conditions, reservations, and restrictions as contained in a Quitclaim Deed agreement between the FAA and the City of Orlando, dated April 17, 1975. The release of property will allow the City of Orlando to dispose of the property for other than aeronautical purposes. The property is located near the corner of Boggy Creek Road and Osceola Parkway. The parcel is currently designated as Single Family Residential (RS-3). The property will be released of its federal obligations to allow for the widening of Boggy Creek Road. The fair market value of this parcel has been determined to be $165,000.

Documents reflecting the Sponsor's request are available, by appointment only, for inspection at the Orlando International Airport and the FAA Airports District Office.

DATES: Comments are due on or before AGC August 5, 2013.

ADDRESSES: Documents are available for review at Orlando International Airport, and the FAA Airports District Office, 5950 Hazeltine National Drive, Suite 400, Orlando, FL 32822. Written comments on the Sponsor's request must be delivered or mailed to: Miguel A. Martinez, Program Manager, Orlando Airports District Office, 5950 Hazeltine National Drive, Suite 400, Orlando, FL 32822-5024.

FOR FURTHER INFORMATION CONTACT: Miguel A. Martinez, Program Manager, Orlando Airports District Office, 5950 Hazeltine National Drive, Suite 400, Orlando, FL 32822-5024.

SUPPLEMENTARY INFORMATION: Section 125 of The Wendell H. Ford Aviation Investment and Reform Act for the 21st Century (AIR-21) requires the FAA to provide an opportunity for public notice and comment prior to the “waiver” or “modification” of a sponsor's Federal obligation to use certain airport land for non-aeronautical purposes.

Bart Vernace,
Manager, Orlando Airports District Office, Southern Office, Southern Region.

[FR Doc. 2013-16149 Filed 7-3-13; 8:45 am]

BILLING CODE 4910-13-P